DEPARTMENT OF THE INTERIOR

Bureau of Land Management

[BLM_AZ_FRN; AZAZ106335207]

Notice of Withdrawal Application and Public Meeting for Oak Creek Canyon, Arizona

AGENCY: Bureau of Land Management, Interior.

ACTION: Notice.

SUMMARY: The United States Forest Service (USFS) has filed an application with the Bureau of Land Management (BLM) requesting that the Secretary of the Interior withdraw 10,024.30 acres of National Forest System (NFS) lands located within the Coconino National Forest from location and entry under the U.S. mining laws, but not from leasing under the mineral leasing laws or geothermal leasing laws or disposal under the Mineral Materials Act of 1947, for a 20-year term, subject to valid existing rights. The purpose of the requested withdrawal is to protect Oak Creek Canyon, located in Coconino County, Arizona, from potential adverse impacts from mining. Publication of this notice temporarily segregates the lands for up to two years, initiates a 90-day public comment period, and announces to the public an opportunity to comment and participate in a public meeting on the USFS' withdrawal application.

DATES: Comments must be received by October 22, 2024. In addition, the USFS and BLM will host a virtual public meeting on Wednesday, October 16, 2024, at 6 p.m. mountain standard time to address the requested withdrawal and associated environmental review process. Instructions for the public meeting are listed in the SUPPLEMENTARY INFORMATION section.

ADDRESSES: All comments should be sent to the BLM Arizona State Office, 1 North Central Avenue, Suite 800, Phoenix, AZ 85004; faxed to (602) 417-9452; or sent by email to BLM_AZ_Withdrawal_Comments@blm.gov. The BLM will not consider comments via telephone calls. Information on how to access the online public meeting will be published 30 days prior to the meeting in the Arizona Daily Sun and also on the below Coconino National Forest website: https://www.fs.usda.gov/detail/coconino/landmanagement/resourcemanagement/?cid=fseprd1156330.

FOR FURTHER INFORMATION CONTACT: Michael Ouellett, Realty Specialist, BLM Arizona State Office, telephone (602) 417-9561, email at mouellett@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The USFS requests the 20-year term withdrawal to protect Oak Creek Canyon located on NFS lands. The subject lands are located within the Coconino National Forest. This request is for a new withdrawal encompassing 10,024.30 acres of NFS lands previously withdrawn by Public Land Order (PLO) No. 7387 (expired May 2, 2019).

The following described NFS lands are the subject of the USFS' withdrawal application:

Gila and Salt River Meridian, Arizona

T. 17 N., R. 6 E.,

Sec. 2, lots 3 thru 6, lots 11 thru 14, and lots 19 and 20;

Sec. 3, all;

Sec. 4, all;

Sec. 5, lots 1 thru 5, S1/2NE1/4, S1/2NW1/4, NE1/4SW1/4, N1/2NE1/4NW1/4SW1/4, N1/2NW1/4NW1/4SW1/4, N1/2SE1/4SW1/4, N1/2SE1/4, and SE1/4SE1/4;

Sec. 8, NE1/4, S1/2NE1/4NE1/4NE1/4NW1/4, SE1/4NE1/4NE1/4NW1/4, SE1/4NE1/4NW1/4, E1/2SE1/4NW1/4, E1/2SW1/4SE1/4NW1/4, SW1/4SW1/4SE1/4NW1/4, E1/2NE1/4SW1/4, N1/2SE1/4SW1/4, N1/2SE1/4, N1/2SW1/4SE1/4, and N1/2SE1/4SE1/4;

Sec. 9, lots 1 thru 9, and NW1/4;

Sec. 10, N1/2, N1/2NE1/4SW1/4, N1/2NW1/4SW1/4, NW1/4NE1/4SE1/4, and N1/2NW1/4SE1/4;

Sec. 11, lots 3 and 4.

T. 18 N., R. 6 E.,

Sec. 4, lots 2 and 5, SE1/4NW1/4, and SW1/4;

Sec. 5, lot 1, S1/2NE1/4, and SE1/4, excepting H.E.S. No. 579;

Sec. 8, E1/2, E1/2NE1/4NW1/4, E1/2SE1/4NW1/4, E1/2NE1/4SW1/4, E1/2SE1/4SW1/4, excepting H.E.S. Nos. 369 and 579, and Small Tracts Act Survey Case No. 0038, recorded December 5, 2000, Book 16, Page 100, Coconino County, Arizona;

Sec. 9, W1/2NW1/4;

Sec. 16, W1/2NW1/4, SW1/4, and SW1/4SE1/4, excepting H.E.S. No. 368; Sec. 17, E1/2, excepting H.E.S. No. 368;

Sec. 20, E1/2NE1/4NE1/4;

Sec. 21, NE1/4, N1/2NW1/4, E1/2SW1/4NW1/4, SE1/4NW1/4, N1/2NE1/4SW1/4, SE1/4NE1/4SW1/4, and SE1/4, excepting H.E.S. No. 367;

Sec. 22, W1/2SW1/4;

Sec. 23, SE1/4SW1/4SW1/4, NE1/4SE1/4SW1/4, S1/2SE1/4SW1/4, S1/2NE1/4SE1/4, SE1/4NW1/4SE1/4, and S1/2SE1/4;

Sec. 24, S1/2SW1/4NE1/4, S1/2SE1/4NE1/4, and S1/2;

Sec. 25, N1/2NE1/4NE1/4, SE1/4NE1/4NE1/4, N1/2NW1/4NE1/4, N1/2NE1/4NW1/4, SW1/4NE1/4NW1/4, and NW1/4NW1/4;

Sec. 26, N1/2, N1/2SW1/4, N1/2SW1/4SW1/4, SW1/4SW1/4SW1/4, N1/2SE1/4SW1/4, and N1/2/NW1/4SE1/4;

Sec. 27, lots 2 thru 4, N1/2, E1/2SE1/4, N1/2NW1/4SE1/4, S1/2SW1/4NW1/4SE1/4, NE1/4SE1/4NW1/4SE1/4, S1/2SE1/4NW1/4SE1/4, and SW1/4SE1/4, excepting H.E.S No. 94;

Sec. 28, E1/2NE1/4, E1/2NW1/4NE1/4, E1/2SW1/4NE1/4, E1/2NE1/4SE1/4, and E1/2SE1/4SE1/4, excepting H.E.S No. 94;

Sec. 33, lots 1 and 2, and lots 6 thru 11, E1/2NE1/4NE1/4, SE1/4SW1/4NE1/4, NE1/4SE1/4NE1/4, SW1/4SE1/4NE1/4, and W1/2SE1/4SE1/4NE1/4, excepting those portions of lot 1 described in Patent No. 731068;

Sec. 34, lot 1, lots 3 thru 5, and lots 9 and 10, NE1/4, SE1/4NW1/4, NE1/4SW1/4, and N1/2SE1/4;

Sec. 35, lots 3 and 4.

T. 19 N., R. 6 E.,

Sec. 14, lot 8, and lots 16 thru 19;

Sec. 15, E1/2SE1/4;

Sec. 22, lots 2 thru 4, and lots 11, 12, 15, 16, 23, and 24;

Sec. 27, lots 1 thru 3, lots 10 thru 15, and lots 21 thru 25, excepting H.E.S. No. 95;

Sec. 34, lots 2 thru 4, and lots 9, 17, 18, and 25.

T. 18 N., R. 7 E.,

Sec. 20, lots 6, 7, and 12;

Sec. 29, lot 1.

The areas described aggregate approximately 10,024 acres.

The use of a right-of-way, interagency agreement, or cooperative agreement would not provide adequate protection of the specified lands.

No additional water rights are needed to fulfill the purpose of this requested withdrawal.

There are no suitable alternative sites since the requested withdrawal area is for the protection of the natural, recreational, and cultural resource values unique to Oak Creek Canyon.

Before including your address, phone number, email address, or other personal identifying information in your comment, you should be aware that your entire comment, including your personal identifying information, may be made publicly available at any time. While you can ask us in your comment to withhold your personal identifying information from public review, we cannot guarantee that we will be able to do so.

Notice is hereby given for a public meeting in connection with the requested withdrawal. The BLM and USFS will host the public meeting online and by telephone. The public meeting is scheduled for Wednesday, October 16, 2024, at 6 p.m. mountain standard time. Information on how to access the online public meeting will be published 30 days prior to the meeting in the Arizona Daily Sun and also on the below Coconino National Forest website: https://www.fs.usda.gov/detail/coconino/landmanagement/resourcemanagement/?cid=fseprd1156330.

For a period of 2 years from the date of publication in the Federal Register, the lands are temporarily segregated from location and entry under the U.S. mining laws, but not from leasing under the mineral leasing laws or geothermal leasing laws or disposal under the Mineral Materials Act of 1947, unless the application is denied or canceled, or the withdrawal is approved prior to that date.

This application will be processed in accordance with the regulations at 43 CFR part 2300.

(Authority: 43 U.S.C. 1714(b)(1) and 43 CFR 2310.3-1)

Raymond Suazo,
State Director.

[FR Doc. 2024-16248 Filed 7-24-24; 8:45 am]

BILLING CODE 3411-15-P